FEDERAL COMMUNICATIONS COMMISSION

47 CFR Part 74

[WT Docket No. 10-153; RM-11602; FCC 11-120]

Facilitating the Use of Microwave for Wireless Backhaul and Other Uses and Providing Additional Flexibility To Broadcast Auxiliary Service and Operational Fixed Microwave Licensees

AGENCY: Federal Communications Commission.

ACTION: Final rule; announcement of effective date.

SUMMARY: In this document, the Commission announces that the Office of Management and Budget (OMB) has approved, for a period of three years, the information collection associated with the Commission's Report and Order (Order), Facilitating the use of Microwave for Wireless Backhaul and Other Uses and Providing Additional Flexibility To Broadcast Auxiliary Service and Operational Fixed Microwave Licensees.

This notice is consistent with the Order, which stated that the Commission would publish a document in the Federal Register announcing the effective date of those rules.

DATES: The rules published at 47 CFR 74.605, that appeared in the Federal Register at 76 FR 59559 (September 27, 2011), are effective on April 1, 2013.

ADDRESSES: Federal Communications Commission, 445 12th Street SW., Washington, DC 20554. A copy of any comments on the Paperwork Reduction Act information collection requirements contained herein should be submitted to Judith B. Herman, Federal Communications Commission, Room 1-B441, 445 12th Street SW., Washington, DC 20554 or via the Internet at Judith-B.Herman@fcc.gov.

FOR FURTHER INFORMATION CONTACT: John J. Schauble, Deputy Chief, Broadband Division, Wireless Telecommunications Bureau at (202) 418-0797 or via the Internet at John.Schauble@fcc.gov.

SUPPLEMENTARY INFORMATION: This document announces that, on March 27, 2012, OMB approved, for a period of three years, the information collection requirements contained in the Commission's Order, FCC 11-120, published at 76 FR 59559, September 27, 2011. The OMB Control Number is 3060-1165. The Commission publishes this notice as an announcement of the effective date of the rules. If you have any comments on the burden estimates listed below, or how the Commission can improve the collections and reduce any burdens caused thereby, please contact Judith B. Herman at (202) 418-0214 or via the Internet at Judith-B.Herman@fcc.gov. Please include the OMB Control Number, 3060-1165, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on March 27, 2012, which contained new or modified information collection requirements in 47 CFR 74.605 of the Commission's rules, requiring Broadcast Auxiliary Service stations operating in the 6875-7125 and 12700-13200 MHz bands to register their stationary receive sites, which would not be effective until approved by the Office of Management and Budget. The information collection was adopted in the Report and Order in WT Docket No. 10-153 which appears at 76 FR 59559, September 27, 2011. The effective date of the rules adopted in that Report and Order was published as October 27, 2011, except for § 74.605. Through this document, the Commission announces that it has received this approval (OMB Control No. 3060-1165, Expiration Date: March 27, 2015) and that § 74.605 will become effective on April 1, 2013.

Under 5 CFR part 1320, an agency may not conduct or sponsor a collection of information unless it displays a current, valid OMB Control Number. No person shall be subject to any penalty for failing to comply with a collection of information subject to the Paperwork Reduction Act that does not display a current, valid OMB Control Number. The OMB Control Number is 3060-1165. The foregoing notice is required by the Paperwork Reduction Act of 1995, Public Law 104-13, October 1, 1995, and 44 U.S.C. 3507.

The total annual reporting burdens and costs for the respondents are as follows:

OMB Control Number: 3060-1165.

OMB Approval Date: March 27, 2012.

OMB Expiration Date: March 31, 2015.

Title: Section 74.605, Registration of Stationary TV Pickup Receive Sites.

Form Number: N/A.

Respondents: Business or other for-profit entities, not-for-profit entities, and state, local or tribal government.

Number of Respondents and Responses: 75 respondents; 314 responses.

Estimated Time per Response: 3 hours.

Frequency of Response: On occasion reporting requirement.

Obligation To Respond: Required to obtain or retain benefits. Statutory authority for this information collection is contained in 47 U.S.C. 303 and 308 of the Communications Act of 1934, as amended.

Total Annual Burden: 942 hours.

Total Annual Cost: $156,750.

Nature and Extent of Confidentiality: There is no need for confidentiality.

Needs and Uses: Section 74.605 requires that licensees of TV pickup stations in the 6875-7125 MHz and 12700-13200 MHz bands shall register their stationary receive sites using the Commission's Universal Licensing System. TV Pickup licensees record their receive-only sites in the Universal Licensing System (ULS) database, including all fixed service locations. The TV Pickup stations, licensed under part 74 of the Commission's rules, make it possible for television and radio stations and networks to transmit program material from the sites of breaking news stories or other live events to television studios for inclusion in broadcast programs, to transmit programming material from studios to broadcasting transmitters for delivery to consumers' televisions and radios, and to transmit programs between broadcast stations. Registering the receive sites will allow analysis to determine whether Fixed Service links will cause interference to TV Pickup stations.

Federal Communications Commission.
Marlene H. Dortch,
Secretary.

[FR Doc. 2013-01863 Filed 1-29-13; 8:45 am]

BILLING CODE 6712-01-P